NUCLEAR REGULATORY COMMISSION

[Docket Nos. 52-047; NRC-2016-0119]

Tennessee Valley Authority; Clinch River Nuclear Site

AGENCY: Nuclear Regulatory Commission.

ACTION: Early site permit application; notice of hearing.

SUMMARY: The U.S. Nuclear Regulatory Commission (NRC) will convene an evidentiary session to receive testimony and exhibits in the uncontested proceeding regarding the Tennessee Valley Authority (TVA) early site permit (ESP) application. In its application, TVA proposes to use the Clinch River Nuclear (CRN) Site in Roane County, TN, as a site for two or more small modular reactors (SMRs).

DATES: The hearing will be held on August 14, 2019, beginning at 9:00 a.m. Eastern Daylight Savings Time. For the schedule for submitting pre-filed documents and deadlines affecting Interested Government Participants, see Section VI of the SUPPLEMENTARY INFORMATION section of this document.

ADDRESSES: Please refer to Docket ID 52-047 when contacting the NRC about the availability of information regarding this document. You may obtain publicly-available information related to this document using any of the following methods: NRC's Electronic Hearing Docket: You may obtain publicly available documents related to this hearing online at http://www.nrc.gov/about-nrc/regulatory/adjudicatory.html.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

FOR FURTHER INFORMATION CONTACT: Denise McGovern, Office of the Secretary, U.S. Nuclear Regulatory Commission, Washington, DC 20555-0001, telephone: 301-415-0681; email: Denise.McGovern@nrc.gov.

SUPPLEMENTARY INFORMATION:

I. Background

The Commission hereby gives notice that, pursuant to Section 189a of the Atomic Energy Act of 1954, as amended (the Act), it will convene an evidentiary session to receive testimony and exhibits in the uncontested proceeding regarding TVA's May 12, 2016, ESP application for the CRN site under part 52 of the title 10 of the Code of Federal Regulations (10 CFR). TVA proposes to use the CRN site in Roane County, TN, as a site for two or more small modular reactors (https://www.nrc.gov/reactors/new-reactors/esp/clinch-river.html). This hearing will concern safety and environmental matters relating to the requested ESP, as more fully described below.

II. Evidentiary Uncontested Hearing

The Commission will conduct this hearing beginning at 9:00 a.m. Eastern Daylight Savings Time on August 14, 2019, at the U.S. Nuclear Regulatory Commission, One White Flint North, 11555 Rockville Pike, Rockville, Maryland 20852.

III. Presiding Officer

The Commission is the presiding officer for this proceeding.

IV. Matters To Be Considered

The matter at issue in this proceeding is whether the review of the application by the Commission's staff has been adequate to support the findings found in 10 CFR 52.24 and 10 CFR 51.105. Findings that must be made for this ESP are as follows:

Issues Pursuant to the Atomic Energy Act of 1954, as Amended

The Commission will determine whether (1) the applicable standards and requirements of the Act and the Commission's regulations have been met; (2) any required notifications to other agencies or bodies have been duly made; (3) there is reasonable assurance that the site is in conformity with the provisions of the Act, and the Commission's regulations; (4) the applicant is technically qualified to engage in any activities authorized; (5) issuance of the permit will not be inimical to the common defense and security or the health and safety of the public; and (6) the findings required by subpart A of 10 CFR part 51 have been made.

Issues Pursuant to the National Environmental Policy Act (NEPA) of 1969, as Amended

The Commission will (1) determine whether the requirements of Sections 102(2)(A), (C), and (E) of NEPA and the applicable regulations in 10 CFR part 51 have been met; (2) independently consider the final balance among conflicting factors contained in the record of the proceeding with a view to determining the appropriate action to be taken; (3) determine, after weighing the environmental, economic, technical, and other benefits against environmental and other costs, and considering reasonable alternatives, whether the early site permit should be issued, denied, or appropriately conditioned to protect environmental values; and (4) determine whether the NEPA review conducted by the NRC staff has been adequate.

V. Schedule for Submittal of Pre-Filed Documents

No later than July 26, 2019, unless the Commission directs otherwise, the NRC staff and the applicant shall submit a list of its anticipated witnesses for the hearing.

No later than July 26, 2019, unless the Commission directs otherwise, the applicant shall submit its pre-filed written testimony. The NRC staff submitted its testimony on June 21, 2019.

The Commission plans to issue written questions on July 12, 2019. Responses to these questions are due on July 26, 2019, unless the Commission directs otherwise.

VI. Interested Government Participants

No later than July 9, 2019, any interested State, local government body, or affected, federally recognized Indian Tribe may file with the Commission a statement of any issues or questions to which the State, local government body, or Indian Tribe wishes the Commission to give particular attention as part of the proceeding. Such statement may be accompanied by any supporting documentation that the State, local government body, or Indian Tribe sees fit to provide. Any statements and supporting documentation (if any) received by the Commission using the agency's E-filing system ¹ by the deadline indicated above will be made part of the record of the proceeding. The Commission will use such statements and documents as appropriate to inform its pre-hearing questions to the NRC staff and applicant, its inquiries at the oral hearing, and its decision following the hearing. The Commission may also request, by July 11, 2019, that one or more particular States, local government bodies, or Indian Tribes send one representative each to the evidentiary hearing to answer Commission questions and/or make a statement for the purpose of assisting the Commission's exploration of one or more of the issues raised by the State, local government body, or Indian Tribe in the pre-hearing filings described above. The decision whether to request the presence of a representative of a State, local government body, or Indian Tribe at the evidentiary hearing to make a statement and/or answer Commission questions is solely at the Commission's discretion. The Commission's request will specify the issue or issues that the representative should be prepared to address.

¹ The process for accessing and using the agency's E-filing system is described in the April 4, 2017, notice of hearing that was issued by the Commission for this proceeding. See Tennessee Valley Authority; Early Site Permit Application for the Clinch River Nuclear Site; Notice of Hearing, Opportunity to Petition for Leave to Intervene and Associated Order Imposing Procedures for Access to Sensitive Unclassified Non-Safeguards Information and Safeguards Information for Contention Preparation (82 FR 16436). Participants who are unable to use the electronic information exchange (EIE), or who will have difficulty complying with EIE requirements in the time frame provided for submission of written statements, may provide their statements by electronic mail to hearing.docket@nrc.gov.

Dated at Rockville, Maryland, this 26th day of June, 2019.
For the Nuclear Regulatory Commission.
Annette L. Vietti-Cook,
Secretary of the Commission.

[FR Doc. 2019-13988 Filed 6-28-19; 8:45 am]

BILLING CODE 7590-01-P